DEPARTMENT OF COMMERCE

National Oceanic and Atmospheric Administration

Agency Information Collection Activities; Submission to the Office of Management and Budget (OMB) for Review and Approval; Comment Request; Economic Surveys of the Commercial and Charter Harvesting Sectors of Federally Managed Fisheries.

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 6, 2021(86 FR 69017) during a 60-day comment period. This notice allows for an additional 30 days for public comments.

Agency: National Oceanic and Atmospheric Administration (NOAA), Commerce.

Title: Economic Surveys of the Commercial and Charter Harvesting Sectors of Federally Managed Fisheries.

OMB Control Number: 0648-XXXX.

Form Number(s): None.

Type of Request: Regular submission (a new collection).

Number of Respondents: 15,600.

Average Hours per Response: 1.03.

Estimated Total Burden Hours: 17,100.

Needs and Uses: This request is for a new hybrid-generic clearance for economic information collections (i.e., surveys) for the commercial and charter harvesting sectors of federally managed fisheries. Once approved, this clearance will allow the National Oceanic & Atmospheric Administration's National Marine Fisheries Service (NMFS) to:

1. Conduct charter sector surveys similar to those it had conducted under previously approved but now discontinued collections.

2. As needed, conduct under the hybrid-generic clearance, commercial sector surveys currently approved under OMB Control Number 0648-0773 as that clearance approaches its expiration date or as changes to those surveys become necessary; and

3. Conduct additional commercial and/or charter sector surveys.

The requested hybrid-generic clearance is for information from the commercial and charter harvesting sectors. That information includes different components of operating costs/expenditures, earnings, employment, ownership, vessel characteristics, effort/gear descriptors, and demographic information. NMFS or its contractors would collect that information principally from the owners and operators of fishing vessel that participated in the commercial and/or charter harvesting sectors.

NMFS and Regional Fishery Management Council economist would use these data to monitor, explain and predict changes in the economic performance and impacts of federally managed fisheries. Those uses of the data would allow more than cursory efforts to comply with or support a variety of laws (e.g. The Magnuson-Stevens Fishery Conservation and Management Act), Executive Orders (EOs), and NOAA strategies and policies. In addition, those uses of the data would contribute to a well-informed, science-based fisheries conservation and management decisions making process, which should increase the net benefits to the Nation.

Affected Public: Individuals or households and Business or other for-profit organizations.

Frequency: Up to twice every two years.

Respondent's Obligation: Voluntary.

Legal Authority: The Magnuson- Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-21676 Filed 10-5-22; 8:45 am]

BILLING CODE 3510-22-P